DEPARTMENT OF COMMERCE

National Oceanic and Atmospheric Administration

[I.D. 102606B]

Sea Turtle Conservation; Activities Related to Fishing

AGENCY: National Marine Fisheries Service (NMFS), National Oceanic and Atmospheric Administration (NOAA), Commerce.

ACTION: Notice of availability; request for comments.

SUMMARY: The National Marine Fisheries Service (NMFS) is seeking public review and comment on information characterizing Atlantic and Gulf of Mexico state trawl fisheries to support the Strategy for Sea Turtle Conservation in Relation to Atlantic and Gulf of Mexico Fisheries (Strategy). NMFS is requesting public review of these reports to ensure state trawl fishery characterizations contain the most accurate and up-to-date scientific, commercial, and anecdotal information available and to inform potential future management actions to address incidental capture of sea turtles in trawl gears (bycatch).

DATES: Written comments on the state trawl characterizations announced by this notice, or other information that NMFS should consider, are requested on or before January 8, 2007.

ADDRESSES: Comments should be sent to: Chief, Marine Mammal and Sea Turtle Division, Office of Protected Resources, NMFS 1315 East-West Highway, Silver Spring, MD 20910. Comments may also be sent via fax to (301) 427-2522. Comments on this notice may be submitted by e-mail (see FOR FURTHER INFORMATION CONTACT). Include in the subject line of the e-mail comment the following document identifier: 102606B. Comments sent via e-mail, including all attachments, must not exceed a 10-megabyte file size. References used in this document may be obtained by writing to this address or by telephoning the contact listed here (See FOR FURTHER INFORMATION CONTACT).

FOR FURTHER INFORMATION CONTACT: Tanya Dobrzynski (ph. 301-713-2322, fax (301) 427-2522, e-mail Tanya.Dobrzynski@noaa.gov).

SUPPLEMENTARY INFORMATION:

Background

All species of sea turtles that occur in U.S. waters are listed as either endangered or threatened under the Endangered Species Act (ESA). NMFS is required to take steps to conserve and recover endangered and threatened sea turtles. Incidental capture in fishing gear is a leading threat to sea turtle populations. Certain types of gear are more prone to incidentally capturing sea turtles than others, depending on the design of the gear, the manner in which the gear is fished, and the time and area within which it is fished. NMFS initiated the Strategy in 2003 to institute a new approach to addressing sea turtle bycatch on a per-gear basis, rather than fishery by fishery, given that sea turtle bycatch is more strongly correlated with gear type than target species. The primary objectives of the Strategy are to: (1) conserve and recover sea turtles; (2) evaluate sea turtle bycatch across gear types; (3) develop and implement measures to reduce bycatch; and (4) authorize fishery takes consistent with ESA mandates. A comprehensive approach evaluating fishing impacts by gear type across fishing sector as well as across state, Federal, and regional boundaries will increase management effectiveness and ensure broader compliance with the ESA.

To execute the goals of the Strategy, NMFS has prioritized fishing gear in relation to sea turtle bycatch. Trawl gears operating without turtle excluder devices in areas and times where sea turtles are present are a high priority gear type under the Strategy. NMFS' efforts to address sea turtle bycatch in trawl gears include characterizing state and Federal fisheries; monitoring and estimating sea turtle takes; undertaking gear research; and working with stakeholders to develop solutions.

To prepare the state fishery characterizations mentioned above, NMFS contracted the Atlantic States Marine Fisheries Commission to prepare Atlantic state reports and individual state agencies in the Gulf of Mexico to prepare Gulf state reports. State fishery characterizations contain information, where available, on all fisheries and fishing gears used in each state's waters. NMFS is seeking public review only of trawl gear reports at this time since trawls have been identified as a high priority gear type under the Strategy. Other gear sections of these reports will likely be made available at a future date.

State trawl gear reports include, where available, information on trawl deployment (e.g., how the gear is deployed, where in the water column it fishes, when it is fished seasonally); target species; number of licensed vessels/fishermen; landings or effort by geographical area; recent history, current status, and projected status of the fishery; state laws and regulations relevant to sea turtle bycatch reduction either directly or indirectly; bycatch monitoring programs (e.g., observer coverage); and sea turtle bycatch. Reports generally include information from 1999-2004.

NMFS is interested in corrections, clarifications, additions, or updates to the information provided in these reports, especially regarding the operation or presence of the trawl fisheries, and/or the interaction of sea turtles with this gear type. Public review and comment is sought to ensure that management decisions are based upon the best information available.

State trawl reports will be available for review for a period of 60 days. Individual trawl gear characterizations can be downloaded at http://www.nmfs.noaa.gov/pr/species/turtles/trawl.htm or copies may be requested from Tanya Dobrzynski (see FOR FURTHER INFORMATION CONTACT).

Dated: November 2, 2006.
James H. Lecky,
Director, Office of Protected Resources, National Marine Fisheries Service.

[FR Doc. E6-18882 Filed 11-7-06; 8:45 am]

BILLING CODE 3510-22-S